DEPARTMENT OF HOMELAND SECURITY

Federal Emergency Management Agency

44 CFR Part 67

[Docket ID FEMA-2011-0002; Internal Agency Docket No. FEMA-B-1204]

Proposed Flood Elevation Determinations

AGENCY: Federal Emergency Management Agency, DHS.

ACTION: Proposed rule.

SUMMARY: Comments are requested on the proposed Base (1% annual-chance) Flood Elevations (BFEs) and proposed BFE modifications for the communities listed in the table below. The purpose of this proposed rule is to seek general information and comment regarding the proposed regulatory flood elevations for the reach described by the downstream and upstream locations in the table below. The BFEs and modified BFEs are a part of the floodplain management measures that the community is required either to adopt or to show evidence of having in effect in order to qualify or remain qualified for participation in the National Flood Insurance Program (NFIP). In addition, these elevations, once finalized, will be used by insurance agents and others to calculate appropriate flood insurance premium rates for new buildings and the contents in those buildings.

DATES: Comments are to be submitted on or before October 20, 2011.

ADDRESSES: The corresponding preliminary Flood Insurance Rate Map (FIRM) for the proposed BFEs for each community is available for inspection at the community's map repository. The respective addresses are listed in the table below.

You may submit comments, identified by Docket No. FEMA-B-1204, to Luis Rodriguez, Chief, Engineering Management Branch, Federal Insurance and Mitigation Administration, Federal Emergency Management Agency, 500 C Street, SW., Washington, DC 20472, (202) 646-4064, or (e-mail) luis.rodriguez1@dhs.gov.

FOR FURTHER INFORMATION CONTACT: Luis Rodriguez, Chief, Engineering Management Branch, Federal Insurance and Mitigation Administration, Federal Emergency Management Agency, 500 C Street, SW., Washington, DC 20472, (202) 646-4064, or (e-mail) luis.rodriguez1@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Comments on any aspect of the Flood Insurance Study and FIRM, other than the proposed BFEs, will be considered. A letter acknowledging receipt of any comments will not be sent.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/country | Source of flooding | Location ** | * Elevation in feet (NGVD) + Elevation in feet (NAVD) # Depth in feet above ground ‸ Elevation in meters (MSL): Existing | * Elevation in feet (NGVD) + Elevation in feet (NAVD) # Depth in feet above ground ‸ Elevation in meters (MSL): Modified
Unincorporated Areas of Highlands County, Florida
Florida | Unincorporated Areas of Highlands County | Arbuckle Creek | Approximately 1.3 miles downstream of U.S. Route 98 | +42 | +41
|  |  | Approximately 1,100 feet upstream of Arbuckle Creek Road | None | +53
Florida | Unincorporated Areas of Highlands County | Carter Creek | At the Arbuckle Creek confluence | +54 | +53
|  |  | Approximately 840 feet downstream of Hartt Road | +54 | +53
Florida | Unincorporated Areas of Highlands County | Platt Branch | Approximately 4.0 miles downstream of County Road 731 | None | +70
|  |  | Approximately 0.43 mile upstream of County Road 731 | None | +88
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Highlands County
Maps are available for inspection at the Highlands county Administration Office, 600 South Commerce Avenue, Sebring, FL 33870.
Unincorporated Areas of Lewis and Clark County, Montana
Montana | Unincorporated Areas of Lewis and Clark County | Silver Creek | Approximately 200 feet downstream of I-15 | None | +3695
|  |  | Approximately 1,800 feet downstream of Applegate Drive | +3746 | +3747
Montana | Unincorporated Areas of Lewis and Clark County | Silver Creek Overflow (D2 Ditch) | Approximately 170 feet downstream of I-15 Frontage Road | None | +3687
|  |  | Approximately 0.38 mile upstream of North Montana Avenue | None | +3712
Montana | Unincorporated Areas of Lewis and Clark County | Silver Creek Overflow (Ryanns Lane) | Approximately 210 feet downstream of North Montana Avenue | None | +3710
|  |  | Approximately 75 feet upstream of North Montana Avenue | None | +3713
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Lewis and Clark County
Maps are available for inspection at 221 Breckenridge Street, Helena, MT 59623.

Flooding source | Location of referenced elevation ** | * Elevation in feet (NGVD) + Elevation in feet (NAVD) # Depth in feet above ground ‸ Elevation in meters (MSL): Effective | * Elevation in feet (NGVD) + Elevation in feet (NAVD) # Depth in feet above ground ‸ Elevation in meters (MSL): Modified | Communities affected
Lawrence County, Arkansas, and Incorporated Areas
Turkey Creek | Approximately 1.2 miles downstream of Southwest Broad Street | None | +261 | Unincorporated Areas of Lawrence County.
| Approximately 0.5 mile downstream of Southwest Broad Street | None | +263
Village Creek | Approximately 1.2 miles downstream of West Free Street | None | +262 | City of Walnut Ridge, Unincorporated Areas of Lawrence County.
| Approximately 0.5 mile upstream of U.S. Route 67 | None | +267
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Walnut Ridge
Maps are available for inspection at the Fire Department, 3227 U.S. Route 67B, Walnut Ridge, AR 72476.
Unincorporated Areas of Lawrence County
Maps are available for inspection at the Lawrence County Recorder's Office, 315 West Main Street, Room 12, Walnut Ridge, AR 72476.
Saline County, Arkansas, and Incorporated Areas
Upper Depot Creek | Approximately 1,000 feet downstream of Sidell Road | None | +349 | Unincorporated Areas of Saline County.
| At the upstream side of Sidell Road | None | +356
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of Saline County
Maps are available for inspection at 200 North Main Street, Room 117, Benton, AR 72015.
Cobb County, Georgia, and Incorporated Areas
Bishop Creek | At the Sope Creek confluence | +910 | +905 | Unincorporated Areas of Cobb County.
| At the downstream side of Indian Hills Trail Northeast | +910 | +909
Blackjack Creek. | At the Sope Creek confluence | +995 | +990 | City of Marietta.
| Approximately 250 feet upstream of the Sope Creek confluence | +999 | +998
Campground Creek | At the Sope Creek confluence | +931 | +927 | Unincorporated Areas of Cobb County.
| Approximately 0.5 mile upstream of the Sope Creek confluence | +931 | +930
Eastside Creek | At the Sope Creek confluence | +920 | +915 | Unincorporated Areas of Cobb County.
| Approximately 1,375 feet upstream of the Sope Creek confluence | +920 | +919
Elizabeth Branch | At the Sope Creek confluence | +1000 | +998 | City of Marietta, Unincorporated Areas of Cobb County.
| Approximately 300 feet upstream of the Sope Creek confluence | +1000 | +999
Piney Grove Creek | At the Sewell Mill Creek confluence | +948 | +945 | Unincorporated Areas of Cobb County.
| Approximately 50 feet upstream of the Sewell Mill Creek confluence | +950 | +949
Robertson Creek | At the Sewell Mill Creek confluence | +923 | +921 | Unincorporated Areas of Cobb County.
| Approximately 725 feet upstream of the Sewell Mill Creek confluence | +924 | +923
Sewell Mill Creek | At the Sope Creek confluence | +921 | +915 | Unincorporated Areas of Cobb County.
| Approximately 300 feet upstream of Karen Lane | +1084 | +1083
Sope Branch | At the Sope Creek confluence | +1023 | +1021 | City of Marietta.
| Approximately 550 feet upstream of the Sope Creek confluence | +1023 | +1022
Sope Creek | Approximately 250 feet upstream of the Chattahoochee River confluence | +803 | +804 | City of Marietta, Unincorporated Areas of Cobb County.
| Approximately 200 feet upstream of Rigby Street | +1040 | +1041
Thompson Creek | At the Sewell Mill Creek confluence | +934 | +933 | Unincorporated Areas of Cobb County.
| Approximately 1,500 feet upstream of the Sewell Mill Creek confluence | +934 | +933
Wildwood Branch | At the Sope Creek confluence | +985 | +976 | City of Marietta, Unincorporated Areas of Cobb County.
| Approximately 0.5 mile upstream of the Sope Creek confluence | +985 | +984
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Marietta
Maps are available for inspection at the Public Works Department, 205 Lawrence Street, Marietta, GA 30060.
Unincorporated Areas of Cobb County
Maps are available for inspection at the Cobb County Development and Inspection Department, 205 Lawrence Street, Marietta, GA 30060.
St. Helena Parish, Louisiana, and Incorporated Areas
Tickfaw River | Approximately 1.48 miles downstream of State Route 16 | None | +110 | Village of Montpelier.
| At the Twelvemile Creek confluence | None | +111
Tributary of Tickfaw River | Approximately 1.14 miles upstream of the Tickfaw River confluence | +114 | +115 | Unincorporated Areas of St. Helena Parish.
| Approximately 1.68 miles upstream of the Tickfaw River confluence | +118 | +119
Twelvemile Creek | At the Tickfaw River confluence | None | +111 | Village of Montpelier.
| At the upstream side of State Route 43 | None | +112
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
Unincorporated Areas of St. Helena Parish
Maps are available for inspection at the St. Helena Parish Police Jury Administration Building, 17911 Highway 43, Greensburg, LA 70441.
Village of Montpelier
Maps are available for inspection at the Montpelier Town Hall, 36400 Highway 16, Montpelier, LA 70422.
Coos County, Oregon, and Incorporated Areas
Pacific Ocean, near City of Bandon | Approximately 370 feet southwest of the intersection of Madison Avenue Southwest and 6th Street Southwest | +18 | +16 | City of Bandon, Unincorporated Areas of Coos County.
| Approximately 420 feet northwest of the intersection of Lincoln Avenue Southwest and 3rd Street Southwest (just south of the Coquille River South Jetty) | +20 | +19
| Approximately 260 feet west of the intersection of Gould Road and Beach Lane | None | +32
| Approximately 300 feet west of the intersection of Beach Loop Drive and Whale Watch Way | +44 | +36
Pacific Ocean, near City of Coos Bay | Approximately 1,950 feet northeast of the intersection of Bastendorf Beach Road and Cape Arago Highway (State Route 540) | +17 | +13 | Unincorporated Areas of Coos County.
| Approximately 880 feet northwest of the intersection of Cape Arago Highway (State Route 540) and Cottell Lane (at Sunset Bay State Park) | None | +17
| Approximately 0.67 mile northwest of the intersection of Coos Head Road and Cape Arago Highway (State Route 540) (just south of Coos Bay South Jetty) | +16 | +18
| Approximately 800 feet northwest of the intersection of Cape Arago Highway (State Route 540) and Byren Road (at Yoakam Point State Natural Site) | +17 | +36
* National Geodetic Vertical Datum.
+ North American Vertical Datum.
# Depth in feet above ground.
‸ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Federal Insurance and Mitigation Administration, Federal Emergency Management Agency, 500 C Street, SW., Washington, DC 20472.
ADDRESSES
City of Bandon
Maps are available for inspection at 555 Highway 101, Bandon, OR 97411.
Unincorporated Areas of Coos County
Maps are available for inspection at 225 North Adams Street, Coquille, OR 97423.

(Catalog of Federal Domestic Assistance No. 97.022, “Flood Insurance.”)

Dated: June 30, 2011.
Sandra K. Knight,
Deputy Federal Insurance and Mitigation Administrator, Mitigation, Department of Homeland Security, Federal Emergency Management Agency.

[FR Doc. 2011-18633 Filed 7-21-11; 8:45 am]

BILLING CODE 9110-12-P